ENVIRONMENTAL PROTECTION AGENCY

40 CFR Parts 52 and 70

[AR-13-1-7526b; FRL-7072-3]

Clean Air Act Full Approval of Operating Permits Program and Approval and Promulgation of Implementation Plans; State of Arkansas; New Source Review

AGENCY: Environmental Protection Agency (EPA).

ACTION: Proposed rule.

SUMMARY: The EPA proposes full approval of the Operating Permit Program of the State of Arkansas and to also approve this rule as it pertains to the State Implementation Plan. In the final rules section of this Federal Register, EPA is approving the State's submission as a direct final rule without prior proposal because the Agency views this as a noncontroversial amendment and anticipates no relevant adverse comments. An explanation for the approval is set forth in the direct final rule. If no relevant adverse comments are received in response to this action, no further activity is contemplated. If EPA receives relevant adverse comments, the direct final rule will be withdrawn and all public comments will be addressed in a subsequent final rule based on this proposed action. The EPA will not institute a second comment period on this action. Any parties interested in commenting should do so at this time.

DATES: Comments on this proposed action must be received in writing on or before November 8, 2001.

ADDRESSES: Written comments on this action should be addressed to Ms. Jole C. Luehrs, Chief, Air Permits Section (6PD-R), at the EPA Region 6 Office listed below. Copies of documents relevant to this action are available for public inspection during normal business hours at the following locations. Anyone wanting to examine these documents should make an appointment with the appropriate office at least two working days in advance.

EPA, Region 6, Air Permits Section (6PD-R), 1445 Ross Avenue, Dallas, Texas 75202-2733.

Arkansas Department of Environmental Quality, Division of Air Pollution Control, 8001 National Drive, P.O. Box 8913, Little Rock, Arkansas 72219-8913.

Anyone wanting to examine these documents should make an appointment with the appropriate office at least two working days in advance.

FOR FURTHER INFORMATION CONTACT: Mr. Daron Page, EPA, Region 6, at (214) 665-7222.

SUPPLEMENTARY INFORMATION: For additional information, see the direct final rule which is published in the final rules section of this Federal Register.

Dated: September 20, 2001.
Gregg A. Cooke,
Regional Administrator, Region 6.

[FR Doc. 01-24901 Filed 10-5-01; 8:45 am]

BILLING CODE 6560-50-P